DEPARTMENT OF AGRICULTURE

Selkirk Mountain Range Winter Travel Plan, Idaho Panhandle National Forests, Bonner and Boundary Counties, ID and Pend Oreille County, WA

AGENCY: Forest Service, USDA.

ACTION: Notice of Intent to Prepare an Environmental Impact Statement.

SUMMARY: The USDA Forest Service will prepare an environmental impact statement (EIS) to document and disclose the potential environmental effects of a proposed winter travel plan for the Selkirk Mountain Range on the Bonners Ferry, Priest Lake and Sandpoint Ranger Districts, Idaho Panhandle National Forests (IPNF). The Selkirk Mountain Range is located immediately northwest of Sandpoint, Idaho. The geographic area for this travel plan is defined as the National Forest System lands on the INPF that are bounded by US Highway 2 on the south, the Pend Oreille Divide on the west, the international border with Canada on the north, and US Highway 95 on the east. The proposal was designed using science from assessments including the Situation Summary and Management Strategy for caribou and winter recreation prepared by the IPNF in 2004. The proposal will result in a Selkirk Mountain Range winter travel plan reflecting designated areas and routes of travel, and applicable restrictions and types of use for each route or area by:

(1) Responding to court direction relating to winter recreation use within the woodland caribou recovery area.

(2) Adapting management actions and land uses to changed information and conditions in wildlife management, particularly for threatened, endangered and sensitive species.

(3) Providing for public access and motorized winter recreation travel in the Selkirk Mountain Range considering both the quantity and quality of opportunities provided.

(4) Establishing objectives and/or restrictions to prevent and/or correct any unacceptable resource impacts that are occurring.

Activities would include: (1) Developing a winter motorized travel plan for public access and recreation use considering both the quantity and quality of experiences provided, in balance with resource management objectives, (2) identifying the types of use and restrictions associated with each resource management objective, and (3) developing a new travel map reflecting winter motorized use, designated areas and routes of travel, and applicable restrictions and types of use for each route or area. Specifically the proposal will allow winter motorized travel on 46 miles of designated routes, 90,028 acres will be closed to winter motorized use based on existing yearlong closures, 13,639 acres would be closed seasonally to winter motorized use from 4/1 until 6/30, and 40,404 acres would be added as closed to winter motorized use. Under the proposal the remaining 434,760 acres of National Forest Lands within the project area would be open to winter motorized use.

The Idaho Panhandle National Forests in Bonner and Boundary Counties, Idaho and Pend Oreille County, Washington will administer these activities. The EIS will tier to the Idaho Panhandle National Forests Forest Plan. (September 1987).

DATES: Comments should be postmarked within 30 days after publication of this notice. Please include your name and address and the name of the project you are commenting on.

ADDRESSES: Submit written comments and suggestions on the proposed management activities or request to be placed on the project mailing list by writing to: Selkirk Mountains Winter Travel Plan, Attn: Greg Hetzler, Sandpoint Ranger District, 1500 Hwy 2, Suite 110, Sandpoint, ID 83864.

FOR FURTHER INFORMATION CONTACT: Greg Hetzler, Project Team Leader, Sandpoint Ranger District at 208-263-5111 or by e-mail at ghetzler@fs.fed.us.

Comments received in response to this solicitation, including names and addresses of those who comment, will be considered part of the public record on this proposed action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. For persons requesting such confidentiality, it may be granted in only very limited circumstances, such as to protect trade secrets. The Forest Service will inform the requester of the agency's decision regarding the request for confidentiality, and where the request is denied; the agency will return the submission and notify the requester that the comments may be resubmitted with or without name and address within 10 days.

SUPPLEMENTARY INFORMATION: More information about the Selkirk Mountain Range Winter Travel Plan can be found on the internet at http://www.fs.fed.us/ipnf/kaniksu/wintertravelplan/. The purpose of the EIS will be to analyze and disclose a range of appropriate winter motorized recreational opportunities, while ensuring that these recreational activities are in an appropriate setting and do not impair or irreparably harm national forest resources or values. Alternatives to be considered in the EIS will respond to the purpose and need. Specifically, the Forest Service will include alternatives allowing varying amounts and types of winter motorized use. Major issues to be addressed in the EIS include the environmental effects of motorized winter use on wildlife, providing appropriate levels and types of motorized use, visitor experience, and socioeconomics.

Two periods are specifically designated for comments on this analysis: (1) During the scoping period which is 30 days from the date of this notice in the Federal Register and (2) during the draft EIS comment period. In accordance with 36 CFR 215.5, as published in the Federal Register, Volume 68 No. 107, June 4, 2003, the draft EIS comment period will be the designated time in which comments will be considered. The mailing list for this project will include those individuals who have expressed interest in this project as well as adjacent landowners and those responding to this NOI or to the Idaho Panhandle National Forests Quarterly Schedule of Proposed Actions. In addition, the public is encouraged to contact or visit with Forest Service officials during the analysis and prior to the decision. The Forest Service will continue to seek information, comments, and assistance from Federal, Tribal, State, and local agencies and other individuals or organizations that may be interested in or affected by the proposed actions. The United States Fish and Wildlife Service will be consulted concerning any effects to threatened and endangered species. The agency invites written comments and suggestions on this action, particularly in terms of identification of issues and alterative development.

Comments from the public and other agencies will be used in preparation of the Draft EIS to identify potential issues and concerns, potential alternatives to the proposed action and to promote communications with members of the public or other agencies. The draft environmental impact statement (DEIS) will be field with the Environmental Protection Agency (EPA) and made available for public review in the summer of 2007. The final environmental impact statement is expected to be completed in winter of 2008. The comment period on the draft environmental impact statement will be 45 days from the date the Environmental Protection Agency publishes the notice of availability in the Federal Register.

The Forest Service believes, at this early stage, it is important to give reviewers notice of several court rulings related to public participation in the environmental review process. First, reviewers of draft environmental review of the proposal so that it is meaningful and alerts and agency to the reviewer's position and contentions. Vermont Yankee Nuclear Power Corp. v. NRDC, 435 U.S. 519, 553 (1978). Also, environmental objections that could be raised at the draft environmental statement stage but that are not raised until after completion of the final environmental statement may be waived or dismissed by the courts. City of Angoon v. Hodel, 803 F 2d 1016, 1022 (9th Cir. 1986 and Wisconsin Heritages, Inc. v. Harris, 490 F. Supp. 1334, 1338 (E.D. Wis. 1980). Because of these court rulings, it is very important that those interested in this proposed action participate by the close of the 45-day comment period so that comments and objections are made available to the Forest Service at a time when it can meaningfully consider them and respond to them in the final environmental impact statement.

To assist the Forest Service in identifying and considering issues related to the proposed action, comments on the draft environmental impact statement should be as specific as possible. It is also helpful if comments refer to specific pages or chapters of the draft statement. Comments may also address the adequacy of the draft environmental impact statement or the merits of the alternatives formulated and discussed in the statement. Reviewers may wish to refer to the Council on Environmental quality Regulations for implementing the procedural provisions of the National environmental Policy Act at 40 CFR 1503.3 in addressing these points.

The United States Department of Agriculture (USDA) prohibits discrimination in its programs on the basis of race, color, national origin, sex, religion, age, disability, political beliefs, and marital or familial status. (Not all prohibited bases apply to all programs.) Persons with disabilities who require alternative means of communication of program information (braille, large print, audiotape, etc.) should contact USDA's TARGET Center at (202) 720-2600 (voice and TDD). To file a complaint, write the Secretary of Agriculture, U.S. Department of Agriculture, Washington, DC 20250, or call 1-800-245-6340 (voice) or 202-720-1127 (TDD). USDA is an equal employment opportunity employer.

The Idaho Panhandle National Forests Supervisor is the Deciding Officer on this project. The decision will be made after considering comments and responses, environmental consequences discussed in the Final EIS, and applicable laws, regulations and policies. The decision and supporting reasons will be documented in a Record of Decision upon release of the Final EIS.

Dated: March 2, 2007.
Ranotta K. McNair,
Forest Supervisor, Idaho Panhandle National Forests.

[FR Doc. 07-1082 Filed 3-7-07; 8:45 am]

BILLING CODE 3410-11-M